DEPARTMENT OF TRANSPORTATION

Federal Aviation Administration

14 CFR Part 39

[Docket No. FAA-2006-25205; Directorate Identifier 2006-NM-071-AD; Amendment 39-14905; AD 2007-02-18]

RIN 2120-AA64

Airworthiness Directives; Boeing Model 767-200 and -300 Series Airplanes

AGENCY: Federal Aviation Administration (FAA), Department of Transportation (DOT).

ACTION: Final rule.

SUMMARY: The FAA is superseding an existing airworthiness directive (AD) that applies to certain Boeing Model 767-200, -300, and -300F series airplanes. That AD currently requires an inspection of visually accessible areas for indications of overheating of the heater tape attached to the potable water fill and drain lines in the forward and aft cargo compartments, exposed foam insulation or missing or damaged protective tape around the potable water fill and drain lines, and debris or contaminants on or near the potable water fill and drain lines. That AD also requires corrective action, as necessary. This new AD requires repetitive inspections of the forward and aft cargo compartments, as applicable, for discrepancies of the potable water supply and gray water drain lines; and applicable corrective actions if necessary. This AD also requires replacing the heater tapes on the potable water supply and gray water drain lines of the forward and aft cargo compartments, as applicable, with new ribbon heaters, or deactivating and removing any defective heater tape and wrapping the drain line with foam insulation; either action ends the repetitive inspections. This AD results from a report of a fire in the aft cargo compartment. We are issuing this AD to prevent overheating of the heater tape on potable water fill and drain lines, which may ignite accumulated debris or contaminants on or near the potable water fill and drain lines, resulting in a fire in the airplane.

DATES: This AD becomes effective March 5, 2007.

The Director of the Federal Register approved the incorporation by reference of a certain publication listed in the AD as of March 5, 2007.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Donald Eiford, Aerospace Engineer, Cabin Safety and Environmental Systems Branch, ANM-150S, FAA, Seattle Aircraft Certification Office, 1601 Lind Avenue, SW., Renton, Washington 98057-3356; telephone (425) 917-6465; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2002-11-11, amendment 39-12772 (67 FR 39265, June 7, 2002). The existing AD applies to certain Boeing Model 767-200, -300, and -300F series airplanes. That NPRM was published in the Federal Register on June 30, 2006 (71 FR 37507). That NPRM proposed to require repetitive inspections of the forward and aft cargo compartments, as applicable, for discrepancies of the potable water supply and gray water drain lines; and applicable corrective actions if necessary. That NPRM also proposed to require replacing the heater tapes on the potable water supply and gray water drain lines of the forward and aft cargo compartments, as applicable, with new ribbon heaters, which would end the repetitive inspections.

Comments

We provided the public the opportunity to participate in the development of this AD. We have considered the comments that have been received on the NPRM.

Request To Permit Alternative Method of Compliance

Boeing requests that we permit an alternative method of compliance for the terminating action described in the NPRM. Boeing states that Boeing Service Bulletin 767-30A0038, Revision 2, dated February 23, 2006, describes procedures for deactivating and removing the heater tapes of certain gray water drain lines and wrapping the drain lines with foam insulation. Boeing therefore requests that we revise the summary and paragraph (h), Terminating Action, of the NPRM to state that the alternative action described here is acceptable as a terminating action for the requirements of the AD.

We agree for the reasons stated. Accordingly, we have revised the summary of the AD, revised paragraph (h) of the AD to include new paragraphs (h)(1) and (h)(2), and removed paragraph identifiers (1) and (2) from Table 2 of the AD. We have also revised the Costs of Compliance section of the AD to present the estimated costs for deactivation and removal of the heating tapes and installation of foam insulation. These actions neither increase the economic burden on any operator nor increase the scope of the AD.

Request To Clarify Costs of Compliance

Boeing requests that we clarify the Costs of Compliance section of the NPRM. Boeing states that the Estimated Costs table is not clear and asserts that the time estimated for performing the inspections should be “2 or 3” work hours. Boeing further asserts that Boeing Service Bulletin 767-30A0038 specifies “between 4.75 and 11 work hours” to perform the heater tape replacements. Although Boeing made no specific request, we infer that Boeing wishes us to revise the Costs of Compliance section to more closely reflect the estimated costs specified in the service bulletin.

We partially agree. We concur that the time estimated for performing the inspections should be 2 or 3 work hours, as shown in the Estimated Costs table. However, the statement that “between 4.75 and 11 work hours” are required to replace the heater tapes does not accurately reflect the service information we have reviewed. The service bulletin provides an estimate of between 4.75 and 11 work hours to gain access, perform inspections, replacements and tests, and close access. Typically, the costs specified in an AD are only the direct costs of the specific actions required by the AD. Therefore, the figures shown in the Estimated Costs table of this AD do not include the time to gain and close access or perform testing. Further, the remaining work hours specified to do the direct actions are divided into two parts: one part to perform the inspections and one part to replace the ribbon heater or to remove the heater and install foam insulation. We have made no changes to the AD in regard to these comments.

Comment Regarding Applicability

A private citizen states that the NPRM does not apply to Model 767 freighter airplanes.

We agree. The AD does not apply to Model 767-300F or -400ER series airplanes (freighters), but only to Model 767-200 and -300 series airplanes, as stated in the NPRM. No change is needed to the AD in this regard.

Request for Posting of Service Information

The Modification and Replacement Parts Association (MARPA), requests that we revise our procedures for incorporation by reference (IBR) of service information in ADs. MARPA states that, as an AD is a public regulatory instrument, it can not rely upon private writings. MARPA asserts that such IBR documents lose any proprietary, protected status they originally had and become public documents and, therefore, that they must be published in the Docket Management System (DMS), keyed to the action that incorporates them. MARPA addresses the stated purpose of the Federal Register IBR method, brevity, which is intended to relieve the Federal Register of needlessly publishing documents already supplied to affected individuals: owners and operators of affected aircraft. MARPA asserts that “affected individuals” are no longer merely owners and operators, but, since most aircraft maintenance is now performed by specialty shops, that a new class of affected individuals has emerged. This new class includes maintenance and repair organizations, component servicing and repair shops, parts purveyors and distributors, and organizations manufacturing or servicing alternatively certified parts under 14 CFR 21.303 (PMA). Further, MARPA contends that the concept of brevity is now nearly archaic as most documents are kept in electronic files. MARPA therefore requests that IBR documents be incorporated by reference into the regulatory instrument and posted in the DMS docket for the applicable AD.

We acknowledge MARPA's comments. The Office of the Federal Register (OFR) requires that documents that are necessary to accomplish the requirements of the AD be incorporated by reference during the final rule phase of rulemaking. This final rule incorporates by reference the document necessary for the accomplishment of the requirements mandated by this AD. Further, we point out that while documents that are incorporated by reference do become public information, they do not lose their copyright protection. For that reason, we advise the public to contact the manufacturer to obtain copies of the referenced service information.

In regard to MARPA's request to post service documents on the Department of Transportation's DMS, we are currently in the process of reviewing issues surrounding the posting of service documents on the DMS as part of an AD docket. Once we have thoroughly examined all aspects of this issue and have made a final determination, we will consider whether our current practice needs to be revised. No change to the final rule is necessary in response to this comment.

Request for Standardized Directorate Policies

MARPA requests standardized directorate policies, asserting that another directorate has already given a blanket parts manufacturer approval (PMA) by stating in published rules that “FAA-approved equivalent parts” may be used. MARPA contends that, by not using similar language, we are not in compliance with Executive Order 12866 or proposed FAA order 8040.2. MARPA asserts that for us to not include similar blanket language at the earliest possible time could work to our disadvantage legally.

We recognize the need for standardization on this issue and currently are in the process of reviewing issues that address PMAs at the national level. However, the Transport Airplane Directorate considers that to delay this particular AD action would be inappropriate, since we have determined that an unsafe condition exists and that replacement of certain parts must be accomplished to ensure continued safety. Therefore, no change has been made to the final rule in this regard.

Conclusion

We have carefully reviewed the available data, including the comments that have been received, and determined that air safety and the public interest require adopting the AD with the changes described previously. We have determined that these changes will neither increase the economic burden on any operator nor increase the scope of the AD.

Costs of Compliance

There are about 455 airplanes of the affected design in the worldwide fleet. The following table provides the estimated costs for U.S. operators to comply with this AD.

Estimated Costs
Action | Work hours ¹ | Average labor rate per hour | Parts | Cost per airplane ¹ | Number of U.S.- registered airplanes | Fleet cost ²
Inspections | 2 or 3 | $80 | None | $160 or $240, per inspection cycle | 83 | Between $13,280 and $19,920, per inspection cycle.
Deactivation/installation of insulation | 1 | 80 | None | $80 | Up to 83 | Up to $6,640.
Replacement | Between 1 and 3 | 80 | $8,000 | Between $8,080 and $8,240 | 83 | Up to $683,920.
¹ Depending on airplane configuration.
² Depending on fleet configuration.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12772 (67 FR 39265, June 7, 2002) and by adding the following new airworthiness directive (AD):

2007-02-18 Boeing: Amendment 39-14905. Docket No. FAA-2006-25205; Directorate Identifier 2006-NM-071-AD.

Effective Date

(a) This AD becomes effective March 5, 2007.

Affected ADs

(b) This AD supersedes AD 2002-11-11.

Applicability

(c) This AD applies to Boeing Model 767-200 and -300 series airplanes, certificated in any category, as identified in Boeing Service Bulletin 767-30A0038, Revision 2, dated February 23, 2006.

Note 1: For the purposes of this AD: An open cargo floor configuration, as identified in Boeing Service Bulletin 767-30A0038, is a floor without panels installed between all roller trays in the cargo compartment. A closed cargo floor configuration, as identified in Boeing Service Bulletin 767-30A0038, is a floor with panels installed between all roller trays in the cargo compartment.

Unsafe Condition

(d) This AD results from a report of a fire in the aft cargo compartment. We are issuing this AD to prevent overheating of the heater tape on potable water fill and drain lines, which may ignite accumulated debris or contaminants on or near the potable water fill and drain lines, resulting in a fire in the airplane.

Compliance

(e) You are responsible for having the actions required by this AD performed within the compliance times specified, unless the actions have already been done.

Repetitive Inspections

(f) Within 18 months since the date of issuance of the original standard airworthiness certificate or the date of issuance of the original export certificate of airworthiness, or within 90 days after the effective date of this AD, whichever is later: Do the actions in Table 1 of this AD in accordance with the Accomplishment Instructions of Boeing Service Bulletin 767-30A0038, Revision 2, dated February 23, 2006.

Table 1.—Inspections
Do a general visual inspection of the forward and aft cargo compartments, as applicable, for— | And, repeat at intervals not to exceed— | Until the requirements of—
(1) Foreign object debris (FOD) or contamination on, near, or around the potable water supply and gray water drain lines | 600 flight hours | Paragraph (h)(1) or (h)(2) of this AD are done.
(2) Indications of heat damage, exposed foam insulation, or missing or damaged protective tape of all heater tape on the potable water supply and gray water drain lines | 1,800 flight hours | Paragraph (h)(1) or (h)(2) of this AD are done.

Corrective Actions

(g) If any discrepancy identified in Table 1 of this AD is found during any general visual inspection required by either paragraph (f)(1) or (f)(2) of this AD, before further flight, do the applicable corrective action by accomplishing all the actions in accordance with the Accomplishment Instructions of Boeing Service Bulletin 767-30A0038, Revision 2, dated February 23, 2006.

Terminating Action

(h) At the applicable compliance time specified in Table 2 of this AD: Perform the actions required by paragraph (h)(1) or (h)(2) of this AD, in accordance with the Accomplishment Instructions of Boeing Service Bulletin 767-30A0038, Revision 2, dated February 23, 2006. Accomplishing the requirements of paragraph (h)(1) or (h)(2) of this AD ends the requirements of paragraph (f) of this AD.

(1) Replace the heater tapes on the potable water supply and gray water drain lines of the forward and aft cargo compartments, as applicable, with Adel Wiggins ribbon heaters.

(2) Deactivate and remove any defective heater tape(s) from the potable water supply and gray water drain line(s) of the forward and aft cargo compartments and wrap the drain line(s) with foam insulation.

Table 2.—Compliance Time for Terminating Action
For airplanes on which the heater tape— | The compliance time is—
Has not been replaced in accordance with Boeing Alert Service Bulletin 767-30A0037, dated May 28, 2002; or Boeing Service Bulletin 767-30A0037, Revision 1, dated July 19, 2002; as of the effective date of this AD | Within 42 months since the date of issuance of the original standard airworthiness certificate or the date of issuance of the original export certificate of airworthiness, or within 24 months after the effective date of this AD, whichever occurs later.
Has been replaced in accordance with Boeing Alert Service Bulletin 767-30A0037, dated May 28, 2002; or Boeing Service Bulletin 767-30A0037, Revision 1, dated July 19, 2002; as of the effective date of this AD | Within 42 months after replacing the heater tape, or within 24 months after the effective date of this AD, whichever occurs later.

Credit for Earlier Revisions of Service Bulletin

(i) For airplanes having variable number (VN) VN471 and VN472: Actions done in the forward cargo compartment before the effective date of this AD in accordance with Boeing Alert Service Bulletin 767-30A0038, dated December 16, 2004; or Boeing Service Bulletin 767-30A0038, Revision 1, dated September 29, 2005; are acceptable for compliance with the corresponding requirements of this AD for the forward cargo compartment only.

(j) For airplanes having VN VS704 through VS707 inclusive: Actions done in the forward cargo compartment before the effective date of this AD in accordance with Boeing Service Bulletin 767-30A0038, Revision 1, dated September 29, 2005, are acceptable for compliance with the corresponding requirements of this AD for the forward cargo compartment only.

(k) For airplanes other than those identified in paragraphs (i) and (j) of this AD: Actions done in the forward and aft cargo compartments, as applicable, before the effective date of this AD in accordance with Boeing Alert Service Bulletin 767-30A0038, dated December 16, 2004; or Boeing Service Bulletin 767-30A0038, Revision 1, dated September 29, 2005; are acceptable for compliance with the corresponding requirements of this AD.

Alternative Methods of Compliance (AMOCs)

(l)(1) The Manager, Seattle Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(m) You must use Boeing Service Bulletin 767-30A0038, Revision 2, dated February 23, 2006, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on January 12, 2007.
Ali Bahrami,
Manager, Transport Airplane Directorate, Aircraft Certification Service.

[FR Doc. E7-1211 Filed 1-26-07; 8:45 am]

BILLING CODE 4910-13-P